DEPARTMENT OF AGRICULTURE

Cooperative State Research, Education, and Extension Service

Notice of Funding Availability for the Healthy Urban Food Enterprise Development Center Request for Applications for Fiscal Year (FY) 2009

AGENCY: Cooperative State Research, Education, and Extension Service, USDA.

ACTION: Notice of funding availability.

SUMMARY: The Cooperative State Research, Education, and Extension Service (CSREES) is announcing the release of the FY 2009 Healthy Urban Food Enterprise Development Center (HUFED-Center) Request for Applications (RFA) via Grants.gov.

DATES: The FY 2009 Healthy Urban Food Enterprise Development Center (HUFED-Center) RFA was posted to Grants.gov on Tuesday, July 14, 2009 and applications must be received via Grants.gov by 5 p.m. Eastern Time on Wednesday, August 12, 2009.

FOR FURTHER INFORMATION CONTACT: Elizabeth Tuckermanty 202-205-0241 (phone), 202-401-6488 (fax), or etuckermanty@csrees.usda.gov.

SUPPLEMENTARY INFORMATION:

Background and Purpose

Section 4402 of the Food, Conservation and Energy Act of 2008 (Pub. L. 110-246) amended section 25 of the Food and Nutrition Act of 2008 which requires that the Secretary of Agriculture provide a grant to a nonprofit organization to establish and support a healthy urban food enterprise development center. The purpose of the HUFED Center is to increase access to healthy, affordable foods, including locally produced agricultural products, to underserved communities. The HUFED Center will provide training and technical assistance for healthy food enterprises and award sub-grants to eligible entities for healthy food enterprise development. The HUFED Center shall provide two main functions: (1) Provide for training and technical assistance (T&TA) for healthy food enterprises; and (2) implement a competitive sub-grant program for healthy food enterprises.

The HUFED Center was created to respond to the need to redevelop a food enterprise structure in the United States in order to make more healthy, affordable food available in low-income areas, to improve access for small and mid-sized agricultural producers, and to promote the positive economic activities generated from attracting food enterprises into underserved communities.

The estimated amount available for support of this program in FY 2009 is $900,000. The eligibility criteria for the project and applicants, and the application forms and associated instructions needed to apply for a HUFED Center award can be accessed through the Grants.gov Web site at http://www.grants.gov.

Done at Washington, DC, this 28th day of July 2009.
Ralph A. Otto,
Associate Administrator, Cooperative State Research, Education, and Extension Service.

[FR Doc. E9-18411 Filed 7-31-09; 8:45 am]

BILLING CODE 3410-22-P